DEPARTMENT OF HOUSING AND URBAN DEVELOPMENT

[Docket No. FR-7084-N-05]

60-Day Notice of Proposed Information Collection: Record of Employee Interview; OMB Control No.: 2501-0009

AGENCY: Office of Field Policy and Management, HUD.

ACTION: Notice.

SUMMARY: HUD is seeking approval from the Office of Management and Budget (OMB) for the information collection described below. In accordance with the Paperwork Reduction Act, HUD is requesting comment from all interested parties on the proposed collection of information. The purpose of this notice is to allow for 60 days of public comment.

DATES: Comments Due Date: November 12, 2024.

ADDRESSES: Interested persons are invited to submit comments regarding this proposal. Written comments and recommendations for the proposed information collection can be sent within 60 days of publication of this notice to www.regulations.gov. Interested persons are also invited to submit comments regarding this proposal and comments should refer to the proposal by name and/or OMB Control Number and should be sent to: Nathan A. Roush, Program Analyst, Office of Field Policy and Management, Department of Housing and Urban Development, 75 Ted Turner Dr. SW, Atlanta, GA 30303 or the number (678) 732-2250 this is not a toll-free number or email at Nathan.A.Roush@hud.gov for a copy of the proposed forms or other available information.

FOR FURTHER INFORMATION CONTACT: Colette Pollards, Reports Management Officer, QDAM, Department of Housing and Urban Development, 451 7th Street SW, Washington, DC 20410, telephone (202) 402-3400 (this is not a toll-free number) or email: Colette.Pollard@hud.gov for copies of the proposed forms and other available information. HUD welcomes and is prepared to receive calls at the phone numbers above from individuals who are deaf or hard of hearing, as well as individuals with speech or communication disabilities. To learn more about how to make an accessible telephone call, please visit https://www.fcc.gov/consumers/guides/telecommunications-relay-service-trs.

SUPPLEMENTARY INFORMATION: The Department is submitting the proposed information collection to OMB for review, as required by the Paperwork Reduction Act of 1995 (44 U.S.C. chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Information Collection: Record of Employee Interview.

OMB Control Number, if applicable: 2501-0009.

Description of the need for the information and proposed use:

All Federal agencies administering programs subject to Davis-Bacon wage provisions are required to enforce Federal Wage and reporting provisions in accordance with Department of Labor (DOL) regulations (29 CFR part 5, section 5.6 paragraphs (1)(2) and (a)(3), respectively).

HUD, State, and local agencies administering HUD-assisted programs must enforce Federal Wage and reporting requirements on covered HUD-assisted construction and maintenance work. Enforcement activities include conducting interviews with laborers and mechanics employed on HUD-assisted projected concerning their employment on covered projects. The HUD-11 and HUD-11-SP (Spanish version) are used to assist in the conducting of on-site interviews and to record the information provided by the respondent. The forms may be supplemented with additional pages, as needed. Responses and the provision of supplemental information are voluntary on the part of respondents. (See HUD Handbook 1344.1 REV-3 [Federal Labor Standards Requirements in Housing and Urban Development Programs], sections 5-9, 5-10 (January 2023).)

Agency form numbers, if applicable: HUD-11/HUD-11-SP.

Estimation of the total numbers of hours needed to prepare the information collection including number of respondents, frequency of response, and hours of response:

Information collection | Number of respondents | Frequency of response | Responses per annum | Total burden hours per response | Annual burden hours | Hourly cost per response | Total cost
HUD-11/11SP Respondent's Time | 20,000 | 1.00 | 20,000 | .25 | 5,000 | $23.69 | $118,450.00

Authority: The Paperwork Reduction Act of 1995, 44 U.S.C. chapter 35, as amended.

Christopher D. Taylor,
Director, Field Policy and Management.

[FR Doc. 2024-20571 Filed 9-10-24; 8:45 am]

BILLING CODE 4210-67-P